SMALL BUSINESS ADMINISTRATION

Office of the National Ombudsman; Solicitation of Nominations for Appointment to Small Business Regional Regulatory Fairness Boards

AGENCY: U.S. Small Business Administration (SBA).

ACTION: Solicit nominations of owners, operators, and officers of small business concerns to serve on 10 Regional Regulatory Fairness Boards nationwide.

SUMMARY: The SBA Office of the National Ombudsman (ONO) is issuing this notice to solicit nominations of qualified owners, operators, and officers of small business concerns to be considered for appointment by the SBA Administrator as a member of a Small Business Regional Regulatory Fairness Board (“RegFair Board”).

The RegFair Board members on the ten regional boards serve as advisors to the National Ombudsman on regulatory enforcement and compliance issues of concern to small business owners within their respective regions and surface those issues to the attention of the National Ombudsman. Nominations of qualified candidates are being sought to fill vacancies on the RegFair Boards. RegFair Board members are appointed by, and serve at the pleasure of, the SBA Administrator for terms of no longer than three years. The Administrator may reappoint an individual for additional terms of service.

Board members serve without compensation. They will, however, be reimbursed for authorized travel-related expenses at per diem rates established by GSA when asked to perform official duties as a Board member.

Authority: This notice was prepared in accordance with the Small Business Regulatory Enforcement Fairness Act of 1996 (SBREFA), (Pub. L. 104-121), Sec. 222.

DATES: Nominations for membership on the RegFair Board will be accepted on a rolling basis.

ADDRESSES: All nominations should be mailed to the Office of the National Ombudsman, U.S. Small Business Administration, 409 3rd Street SW., Washington, DC 20416, or emailed to ombudsman@sba.gov.

FOR FURTHER INFORMATION CONTACT: Ms. Cynthia Pope, Office of the National Ombudsman, U.S. Small Business Administration, 409 3rd Street SW., Washington, DC 20416, Telephone: (202) 401-299; Email: cynthia.pope@sba.gov. A copy of the RegFair Board Charter and a list of current Board members may be obtained by contacting Ms. Pope. For more information on ONO, please visit our Web site, www.sba.gov/ombudsman.

SUPPLEMENTARY INFORMATION: As established by the United States Congress, the Small Business Regulatory Enforcement Fairness Act of 1996 created ONO within the SBA and 10 Regional Regulatory Fairness Boards nationwide. Pursuant to the statute, ONO works with Federal agencies that have regulatory authority over small businesses subjected to an audit, on-site inspection, fine or penalty, compliance assistance effort, or other enforcement related communication or contact by agency personnel with a vehicle to comment on the enforcement actions.

Pursuant to SBREFA, the ONO is authorized to establish, maintain, and coordinate activities of 10 Regional Regulatory Fairness Boards. The ONO has RegFair Boards in each of SBA's 10 regions. Each Board is comprised of 5 small business owners, operators, or officers. No more than three RegFair Board Members per board may be of the same political affiliation. All Board members are appointed by the SBA Administrator for three-year terms.

The purpose of the RegFair Boards is to have leaders of small businesses advise and represent the National Ombudsman on regulatory issues for small businesses in their respective regions. Each year, the RegFair Boards convene for an annual meeting to discuss the state of affairs in Federal regulatory enforcement. The meeting also provides the ONO with the opportunity to assess trends and new regulatory issues that impact small businesses in each region.

Additionally, the RegFair Boards work with the SBA District Offices and SBA Regional staff to communicate opportunities small businesses have to share their concerns regarding regulatory enforcement. This includes promoting and providing small businesses with information regarding RegFair Hearings and Roundtables within their respective regions.

Requirements for Nomination Submission

Completed SBA Form 898: Interested applicants must submit a completed SBA Form 898. To download a copy of the form, please visit https://www.sba.gov/ombudsman/fairness-boards. Please note that a YES answer to any of the questions listed in Section 6 of the SBA Form 898 Advisory Committee Membership Nominee Information Form may deem a candidate ineligible to serve on a RegFair Board.

Resume: Please include the nominee's contact information (including name, mailing address, telephone numbers, and email address) and a chronological summary of the nominee's experience and qualifications. Please do not submit a bio.

Dated: June 27, 2017.
Richard W. Kingan,
SBA Committee Management Officer (Acting).

[FR Doc. 2017-14001 Filed 7-3-17; 8:45 am]

BILLING CODE 8025-01-P